DEPARTMENT OF COMMERCE

National Oceanic and Atmospheric Administration

50 CFR Part 622

[I.D. 052405A]

Gulf of Mexico Fishery Management Council; Public Hearings

AGENCY: National Marine Fisheries Service (NMFS), National Oceanic and Atmospheric Administration (NOAA), Commerce.

ACTION: Proposed rule; public hearings.

SUMMARY: The Gulf of Mexico Fishery Management Council (Council) will convene public hearings to solicit comments on the Draft Amendment to the FMPs for Reef Fish (Amendment 25) and Coastal Migratory Pelagics (CMP) (Amendment 17) for extending the Charter Vessel/Headboat Permit Moratorium and Draft Amendment 18A to the Reef Fish Fishery Management Plan for the Reef Fish Resources of the Gulf of Mexico, and to conduct a workshop on potential interim measures to reduce recreational red grouper harvest in the Gulf of Mexico, with associated impacts on gag and other groupers.

DATES: The public hearings and workshops will be held from June 13 through June 29, 2005, at 10 locations throughout the Gulf of Mexico. For specific dates and times see SUPPLEMENTARY INFORMATION.

ADDRESSES: Meeting addresses: The public hearings and workshops will be held in Port Isabel, Galveston, and Port Aransas, Texas; St. Rose, Louisiana; Biloxi, Mississippi; Orange Beach, Alabama; and Destin, Madeira Beach, Naples, and Key West, Florida. For specific locations see SUPPLEMENTARY INFORMATION.

Council address: Gulf of Mexico Fishery Management Council, 3018 North U.S. Highway 301, Suite 1000, Tampa, FL 33619.

FOR FURTHER INFORMATION CONTACT: Mr. Stu Kennedy, Fishery Biologist, Gulf of Mexico Fishery Management Council; telephone: 813.228.2815.

SUPPLEMENTARY INFORMATION: The Gulf of Mexico Fishery Management Council (Council) will convene pubic hearings to solicit comments on two issues in the following order:

1. Draft Amendment to the FMPs for Reef Fish (Amendment 25) and Coastal Migratory Pelagics (Amendment 17) for extending the Charter Vessel/Headboat Permit Moratorium. Amendments establishing the charter vessel/headboat permit moratorium for the CMP fishery and the Reef Fish fishery that were approved by NOAA Fisheries on May 6, 2003, and implemented on June 16, 2003 (68 FR 26280). The intended effect of these Amendments was to cap the number of for-hire vessels operating in these two fisheries at the current level (as of March 29, 2001) while the Council evaluated whether limited access programs were needed to constrain effort. In this amendment, the Council is considering allowing the permit to expire on June 16, 2006 or extending the moratorium on for-hire Reef Fish and CMP permits for a finite period of time or indefinitely.

2. Draft Amendment 18A to the Reef Fish Fishery Management Plan for the Reef Fish Resources of the Gulf of Mexico: Reef Fish Amendment 18A deals with enforcement and monitoring issues, including simultaneous commercial and recreational harvest on a vessel (to improve enforceability of prohibition on sale of recreationally caught reef fish), maximum crew size on a Coast Guard inspected vessel when fishing commercially (to resolve a conflict between NMFS maximum crew size and USCG minimum crew size regulations), use of reef fish for bait, and vessel monitoring system (VMS) requirements on commercial reef fish vessels. Amendment 18A also addresses administrative changes to the framework procedure for setting total allowable catch (TAC) of reef fish, and measures to reduce bycatch and bycatch mortality of endangered sea turtles and smalltooth sawfish taken inadvertently in the commercial and charter/headboat reef fish fishery.

After the public hearings, workshops will be held to address potential interim measures to reduce recreational red grouper harvest in the Gulf of Mexico, with associated impacts on gag and other groupers: Secretarial Amendment 1 to the Reef Fish Fishery Management Plan of the Gulf of Mexico established a rebuilding plan and 6.56 mp GW allowable biological catch for red grouper. During 2003 and 2004, recreational red grouper landings exceeded the 1.25 mp GW recreational allocation. In March 2005, the Gulf Council requested NMFS implement an interim rule to reduce the 2005 recreational red grouper harvest to levels in Secretarial Amendment 1. The purpose of this action is to establish interim regulations that reduce the likelihood overfishing for red grouper will occur in 2005. Possible measures include changes to the red grouper and aggregate grouper bag limits, changes in size limit, and a closed season for all groupers.

The public hearings and workshops will begin at 6 p.m. and conclude no later than 10 p.m. at each of the following locations:

Monday, June 13, 2005, New Orleans Airport Ramada Inn and Suites, 110 James Drive East, St. Rose, Louisiana 70087, 504-466-1355.

Tuesday, June 14, 2005, Mississippi Department of Marine Resources, 1141 Bayview Drive, Biloxi, Mississippi 39530, 228-374-5000.

Wednesday, June 15, 2005, Orange Beach Community Center, 4849 Wilson Boulevard, Orange Beach, Alabama 36561, 251-981-6028.

Thursday, June 16, 2005, Destin Community Center, 101 Stahlman Avenue, Destin, Florida 32541, 850-654-5184.

Monday, June 20, 2005, The San Luis Resort, 5222 Seawall Boulevard, Galveston Island, Texas 77551, 409-744-1500.

Wednesday June 22, 2005, University of Texas Marine Science Institute Auditorium, 750 Channel View Drive, Port Aransas, Texas 78373, 361-749-6711.

Thursday, June 23, 2005, Port Isabel Community Center, 213 Yturria, Port Isabel, Texas 78578, 956-943-2682.

Monday, June 27, 2005, DoubleTree Grand Key Resort, 3990 S. Roosevelt Boulevard, Key West, Florida 33040, 888-310-1540.

Tuesday, June 28, 2005, Hilton, 5111 Tamiami Trail North, Naples, Florida 34103, 239-430-4900.

Wednesday, June 29, 2005, City of Madeira Beach, 300 Municipal Drive, Madeira Beach, Florida 33708, 727-391-9951.

A copy of the Amendments and related materials can be obtained by calling the Council office at 813.228.2815.

Special Accomodations

These meetings are physically accessible to people with disabilities. Requests for sign language interpretation or other auxiliary aids should be directed to Dawn Aring at the Council (see ADDRESSES) by June 6, 2005.

Dated: May 24, 2005.
Alan D. Risenhoover
Acting Director, Office of Sustainable Fisheries, National Marine Fisheries Service.

[FR Doc. 05-10665 Filed 5-26-05; 8:45 am]

BILLING CODE 3510-22-S